OFFICE OF PERSONNEL MANAGEMENT

Excepted Service

AGENCY: U.S. Office of Personnel Management (OPM).

ACTION: Notice.

SUMMARY: This notice identifies Schedule A, B, and C appointing authorities applicable to a single agency that were established or revoked from July 1, 2012, to July 31, 2012.

FOR FURTHER INFORMATION CONTACT: Senior Executive Resources Services, Executive Resources and Employee Development, Employee Services, 202-606-2246.

SUPPLEMENTARY INFORMATION: In accordance with 5 CFR 213.103, Schedule A, B and C appointing authorities available for use by all agencies are codified in the Code of Federal Regulations (CFR). Schedule A, B and C appointing authorities applicable to a single agency are not codified in the CFR, but the Office of Personnel Management (OPM) publishes a notice of agency-specific authorities established or revoked each month in the Federal Register at www.gpo.gov/fdsys/. OPM also publishes annually a consolidated listing of all Schedule A, B and C appointing authorities current as of June 30 as a notice in the Federal Register.

Schedule A

Schedule A authorities to report during July 2012.

75. Woodrow Wilson International Center for Scholars (Sch. A, 213.3175)

(a) One Asian Studies Program Administrator, one International Security Studies Program Administrator, one Latin American Program Administrator, one Russian Studies Program Administrator, one West European Program Administrator, one Environmental Change & Security Studies Program Administrator, one United States Studies Program Administrator, two Social Science Program Administrators, one Middle East Studies Program Administrator, one African Studies Program Administrator and one Global Sustainability and Resilience Program Administrator.

The following correction was made under Schedule A.

11. Department of Homeland Security (Sch. A, 213.3211)

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

Schedule B

Schedule B authorities to report during July 2012.

11. Department of Homeland Security (Sch. B, 213.3211)

(b) Secret Service—Positions concerned with the protection of the life and safety of the President and members of his immediate family, or other persons for whom similar protective services are prescribed by law, when filled in accordance with special appointment procedures approved by OPM. Service under this authority may not exceed:

(1) A total of 4 years; or

(2) 120 days following completion of the service required for conversion under Executive Order 11203. (Formerly 213.3205(d)).

Schedule C

Agency name | Organization name | Position title | Authorization No. | Effective date
Department of Agriculture | Farm Service Agency | State Executive Director | DA120089 | 7/3/2012
| Office of Under Secretary for Natural Resources and Environment | Staff Assistant | DA120091 | 7/6/2012
| Office of the Assistant Secretary for Congressional Relations | Special Assistant | DA120092 | 7/6/2012
Department of Commerce | Office of the Chief of Staff | Director of Advance | DC120134 | 7/3/2012
| Office of Under Secretary | Deputy Chief of Staff | DC120129 | 7/10/2012
| Office of the Chief Financial Officer and Assistant Secretary for Administration | Senior Director for Performance and Business Process Improvement | DC120136 | 7/10/2012
| Office of the Director | Associate Director for Legislative, Education and Intergovernmental Affairs | DC120137 | 7/10/2012
| Assistant Secretary for Market Access and Compliance | Senior Advisor | DC120139 | 7/24/2012
| Advocacy Center | Special Assistant | DC120141 | 7/24/2012
| Office of Public Affairs | Press Secretary | DC120146 | 7/25/2012
Council on Environmental Quality | Council on Environmental Quality | Special Assistant (Communications) | EQ120005 | 7/3/2012
| Council on Environmental Quality | Special Assistant Public Engagement | EQ120006 | 7/6/2012
Department of Defense | Washington Headquarters Services | Defense Fellow | DD120086 | 7/3/2012
| Washington Headquarters Services | Defense Fellow | DD120089 | 7/3/2012
| Washington Headquarters Services | Defense Fellow | DD120090 | 7/3/2012
| Washington Headquarters Services | Defense Fellow | DD120091 | 7/3/2012
| Washington Headquarters Services | Defense Fellow | DD120092 | 7/3/2012
| Washington Headquarters Services | Defense Fellow | DD120096 | 7/12/2012
Department of Education | Office of Legislation and Congressional Affairs | Confidential Assistant | DB120080 | 7/17/2012
| Office of the Secretary | Confidential Assistant | DB120069 | 7/19/2012
| Office of the Secretary | Special Assistant | DB120077 | 7/19/2012
| Office of the Secretary | Confidential Assistant | DB120082 | 7/30/2012
Department of Energy | Assistant Secretary for Energy Efficiency and Renewable Energy | Special Advisor | DE120113 | 7/6/2012
| Office of Management | Special Assistant | DE120115 | 7/19/2012
| Office of the Secretary | Special Assistant | DE120119 | 7/20/2012
| Office of Environmental Management | Special Assistant | DE120122 | 7/24/2012
Export-Import Bank | Office of Communications | Speechwriter | EB120004 | 7/6/2012
General Services Administration | Office of the Administrator | Press Secretary | GS120023 | 7/12/2012
Department of Health and Human Services | Office of Intergovernmental and External Affairs | Regional Director, Atlanta, Georgia, Region IV | DH120122 | 7/24/2012
Department of Homeland Security | U.S. Customs and Border Protection | Senior Advisor for Strategic Communications | DM120145 | 7/10/2012
| Office of the Assistant Secretary for Public Affairs | Public Affairs and Strategic Communications Assistant | DM120151 | 7/30/2012
| Office of the Under Secretary for National Protection and Programs Directorate | Special Assistant | DM120155 | 7/30/2012
Department of Justice | Office of the Attorney General | Special Assistant | DJ120079 | 7/2/2012
Department of Labor | Employment and Training Administration | Senior Policy Advisor | DL120070 | 7/10/2012
| Office of the Secretary | Special Assistant | DL120072 | 7/25/2012
National Aeronautics and Space Administration | Chief of Staff | Special Assistant | NN120061 | 7/12/2012
Office of Management and Budget | National Security Programs | Confidential Assistant | BO120030 | 7/6/2012
Office of National Drug Control Policy | Office of Intergovernmental Public Liaison | Public Engagement Specialist | QQ120004 | 7/20/2012
Securities and Exchange Commission | Office of the Chairman | Deputy Director, Office of Legislative and Intergovernmental Affairs | SE120005 | 7/26/2012
Small Business Administration | Office of the Administrator | Senior Advisor | SB120028 | 7/12/2012
| Office of Entrepreneurial Development | Director of Clusters and Skills Initiatives | SB120027 | 7/13/2012
Department of State | Bureau of Legislative Affairs | Senior Advisor | DS120097 | 7/6/2012
| Office of the Under Secretary for Civilian Security, Democracy and Human Rights | Senior Advisor | DS120098 | 7/12/2012
| Office of the Under Secretary for Arms Control and International Security Affairs | Staff Assistant | DS120096 | 7/19/2012
| Office of the Under Secretary for Public Diplomacy and Public Affairs | Staff Assistant | DS120090 | 7/20/2012
Department of the Treasury | Under Secretary for Domestic Finance | Special Assistant | DY120101 | 7/11/2012
| Assistant Secretary for Financial Markets | Senior Policy Analyst | DY120106 | 7/13/2012
Department of Veterans Affairs | Office of the Assistant Secretary for Public and Intergovernmental Affairs | Special Assistant | DV120061 | 7/13/2012

The following Schedule C appointing authorities were revoked during July 2012.

Agency | Organization | Position title | Authorization No. | Effective date
Department of Commerce | Office of Policy and Strategic Planning | Special Assistant | DC110086 | 7/6/2012
| Office of the Deputy Secretary | Special Assistant | DC120023 | 7/7/2012
| Office of the Chief of Staff | Deputy Director of Advance | DC110117 | 7/8/2012
| Office of the Chief of Staff | Senior Advisor to the Secretary | DC120018 | 7/9/2012
| International Trade Administration | Special Advisor | DC100140 | 7/28/2012
Department of Homeland Security | Office of the Executive Secretary for Operations and Administration | Secretary Briefing Book Coordinator | DM110023 | 7/6/2012
| Office of the Assistant Secretary for Public Affairs | Special Projects Coordinator | DM120134 | 7/18/2012
| Office of the Assistant Secretary for Intergovernmental Affairs | Confidential Assistant | DM120061 | 7/20/2012
Department of Justice | Office of the Attorney General | Director of Advance | DJ090218 | 7/27/2012
| Civil Rights Division | Counsel | DJ100004 | 7/28/2012
Department of the Air Force | Office of Assistant Secretary Air Force for Financial Management and Comptroller | Special Assistant, Financial Administration and Programs | DF100005 | 7/14/2012
Environmental Protection Agency | Operations Staff | Special Representative | EP120005 | 7/13/2012
Small Business Administration | Office of Management and Administration | Senior Advisor to the Associate Administrator for Management and Administration | SB110019 | 7/14/2012
| Office of Entrepreneurial Development | Senior Advisor to the Associate Administrator for Entrepreneurial Development | SB100042 | 7/14/2012
United States International Trade Commission | Office of the Chairman | Executive Assistant | TC020003 | 7/3/2012

Authority: 5 U.S.C. 3301 and 3302; E.O. 10577, 3 CFR 1954-1958 Comp., p. 218.

U.S. Office of Personnel Management.
John Berry,
Director.

[FR Doc. 2012-23522 Filed 9-24-12; 8:45 am]

BILLING CODE 6325-39-P